CONSUMER PRODUCT SAFETY COMMISSION

Draft Information Quality Guidelines: Notice of Availability

AGENCY: Consumer Product Safety Commission.

ACTION: Notice.

SUMMARY: The Consumer Product Safety Commission is announcing the availability of a draft of its Guidelines for Ensuring the Quality, Objectivity, Utility, and Integrity of Information disseminated by the Commission.

DATES: Comments must be received by July 1, 2002.

ADDRESSES: Written comments should be captioned “Information Quality Guidelines” and mailed to the Office of the Secretary, Consumer Product Safety Commission, Washington, DC 20207, or delivered to that office, room 502, East-West Highway, Bethesda, Maryland 20814. Comments may also be filed by facsimile to (301) 504-0127 or by e-mail to cpsc-os@cpsc.gov, or by the Web site comment submission form at http://www.cpsc.gov/feedback.html.

FOR FURTHER INFORMATION CONTACT: Joseph F. Rosenthal, Office of the General Counsel, Consumer Product Safety Commission, 301-504-0980, e-mail jrosenthal@cpsc.gov.

SUPPLEMENTARY INFORMATION: These draft guidelines and supporting documents are available on the Internet at http://www.cpsc.gov/library/infoguides.pdf and are issued pursuant to section 515 of the Treasury and General Government Appropriations Act for Fiscal Year 2001, Public Law 106-554, which mandated that the Office of Management and Budget (OMB) issue government-wide guidelines that “provide policy and procedural guidance to Federal agencies for ensuring and maximizing the quality, objectivity, utility, and integrity of information (including statistical information) disseminated by Federal agencies.” The statute further requires OMB to require each Federal agency to issue its own guidelines. OMB's amended final guidance appears at 67 FR 8452, February 22, 2002, and at http://www.whitehouse.gov/omb/fedreg/final_information_quality.htm. The OMB guidelines, as further revised at 67 FR 9797, March 4, 2002, require each Federal agency to post its own draft guidelines on the Internet by May 1, 2002. Based on comments from the public and OMB, final agency guidelines will be issued by October 1, 2002. Thereafter, starting on January 1, 2004, agencies must file annual fiscal year reports to OMB on the number, nature and resolution of complaints about alleged noncompliance with the agency guidelines.

A paper copy of the guidelines may also be obtained by telephoning Mary Kelsey at 301-504-0000.

Dated: April 25, 2002.
Todd Stevenson,
Secretary, Consumer Product Safety Commission.

[FR Doc. 02-10636 Filed 4-29-02; 8:45 am]

BILLING CODE 6355-01-P